DEPARTMENT OF COMMERCE

National Oceanic and Atmospheric Administration

RIN 0648-XG549

Endangered and Threatened Species; Take of Anadromous Fish

AGENCY: National Marine Fisheries Service (NMFS), National Oceanic and Atmospheric Administration (NOAA), Commerce.

ACTION: Notice of intent to prepare a Draft Supplemental Environmental Impact Statement.

SUMMARY: Pursuant to the National Environmental Policy Act (NEPA), this notice announces that NMFS is preparing a Draft Supplemental Environmental Impact Statement (DSEIS) to supplement information in the 2017 Draft Environmental Impact Statement (DEIS) for 10 Hatchery and Genetic Management Plans (HGMP) for salmon and steelhead hatchery programs jointly submitted by the Washington Department of Fish and Wildlife (WDFW) with the Muckleshoot Indian Tribe and the Suquamish Tribe (referred to as the co-managers), for NMFS's evaluation and determination under Limit 6 of the Endangered Species Act (ESA) 4(d) Rule for threatened salmon and steelhead. The HGMPs specify the propagation of salmon and steelhead in the Duwamish-Green River basin in Washington State. The DSEIS will analyze an additional alternative reflecting an increase in hatchery production of juvenile Chinook salmon.

DATES: Because NMFS has previously requested (81 FR 26776, May 6, 2016) and received information from the public on issues to be addressed in the EIS, and because the Council on Environmental Quality (CEQ) regulations for implementing the National Environmental Policy Act (NEPA) do not require additional scoping for this DSEIS process (40 CFR 1502.9(c)(4)), NMFS is not asking for further public scoping information and comment at this time. Upon release of the DSEIS, NMFS will provide a 45-day public review/comment period.

ADDRESSES: Copies of the 2017 DEIS are available from NMFS, Sustainable Fisheries Division at 510 Desmond Drive SE, Suite 103, Lacey, WA 98503, and on the web at http://www.westcoast.fisheries.noaa.gov/hatcheries/Duwamish-Green/duw-green_hgmps_deis.html.

FOR FURTHER INFORMATION CONTACT: Steve Leider, NMFS, by phone at (360) 753-4650, or email to steve.leider@noaa.gov.

SUPPLEMENTARY INFORMATION:

Background

The WDFW, and the co-managers have jointly submitted to NMFS HGMPs for 10 hatchery programs in the Duwamish-Green River basin in Washington State. The HGMPs reviewed in the DEIS were submitted to NMFS from 2013 to 2015, pursuant to limit 6 of the 4(d) Rule for salmon and steelhead. The hatchery programs include releases of ESA-listed Chinook salmon and winter-run steelhead into the Duwamish-Green River basin. The hatchery programs also release non-listed coho and fall-run chum salmon and summer-run steelhead into the Duwamish-Green River basin. One hatchery program releases coho salmon into marine waters adjacent to the Duwamish-Green River basin. Seven of the programs are currently operating, and three are new.

NEPA requires Federal agencies to conduct environmental analyses of their proposed major actions to determine if the actions may affect the human environment. NMFS's action of determining that implementation of the co-managers' HGMPs would not appreciably reduce the likelihood of survival and recovery of affected threated ESUs under Limit 6 of the 4(d) Rule for salmon and steelhead promulgated under the ESA, is a major Federal action subject to environmental review under NEPA.

On May 4, 2016, NMFS announced its intent to prepare an EIS and the 30-day public scoping period ended on June 3, 2016. On November 3, 2017, NMFS announced the release of a DEIS for public comment. The DEIS includes an analysis of the proposed action identified in the 2016 NOI and the anticipated environmental impacts. Following an extension, the 75-day public comment period ended on January 19, 2018.

In light of subsequent information, NMFS has determined that the Final EIS would benefit from the analysis of an expanded range of potential alternatives for hatchery production of Chinook salmon. The alternative to be analyzed in the DSEIS is informed by the applicant's interest in increasing hatchery production of juvenile Chinook salmon, and NMFS' analysis of the status of endangered Southern Resident Killer Whales and the importance of Chinook salmon prey to their food base. The DSEIS will analyze an increased level of Chinook salmon hatchery production and provide the public with an opportunity for review and comment. The DSEIS, in conjunction with the 2017 DEIS, will collectively evaluate the proposed action and alternatives.

Alternatives

The alternatives analyzed in the 2017 DEIS are summarized in the DEIS Notice of Intent (82 FR 26776, May 4, 2016). The upcoming DSEIS will analyze an alternative in which hatchery production from the Soos Creek Chinook salmon program would produce an additional 2,000,000 juvenile Chinook salmon to be released at Palmer Ponds in the Duwamish-Green River basin.

Authority

The environmental review of the 10 salmon and steelhead HGMPs in the Duwamish-Green River basin of Washington State will be conducted in accordance with requirements of the NEPA of 1969 as amended (42 U.S.C. 4321 et seq.), NEPA Regulations (40 CFR parts 1500-1508), other appropriate Federal laws and regulations, and policies and procedures of NMFS for compliance with those regulations.

Dated: October 15, 2018.
Angela Somma,
Chief, Endangered Species Division, Office of Protected Resources, National Marine Fisheries Service.

[FR Doc. 2018-22809 Filed 10-18-18; 8:45 am]

BILLING CODE 3510-22-P